DEPARTMENT OF THE INTERIOR

Fish and Wildlife Service

50 CFR Part 17

RIN 1018-AI61

Endangered and Threatened Wildlife and Plants; Listing the Sonoma County Distinct Population Segment of the California Tiger Salamander as Endangered

AGENCY: Fish and Wildlife Service, Interior.

ACTION: Proposed rule.

SUMMARY: We, the Fish and Wildlife Service (Service), propose to make permanent the provisions of the emergency rule listing the Sonoma County distinct population segment (DPS) of the California tiger salamander (Ambystoma californiense), as endangered under the Endangered Species Act of 1973, as amended (Act). The emergency rule listing the population is published concurrently in this issue of the Federal Register. The Sonoma County DPS of the California tiger salamander is currently known from only seven viable breeding sites and associated uplands.

This species is imperiled by a variety of factors including habitat destruction, degradation, and fragmentation due to urban development. Other threats include road construction, pesticide drift, collection, and inadequate regulatory mechanisms. Extinction also could occur by naturally occurring events due to the small, isolated nature of the remaining breeding sites. We find these threats constitute a significant and immediate risk to the Sonoma County DPS of the California tiger salamander.

We solicit additional data and information that may assist us in making a final decision on this proposed action. This proposal, if made final, would extend the Federal protection and recovery provisions of the Act to this species.

DATES: We will accept comments until the close of business on September 20, 2002. Public hearing requests must be received by September 5, 2002.

ADDRESSES: If you wish to comment, you may submit your comments and materials by any one of several methods:

(1) You may submit written comments and information to the Field Supervisor (Attn: SCCTS), Sacramento Fish and Wildlife Office, U.S. Fish and Wildlife Service, 2800 Cottage Way, Room W-2605, Sacramento, CA 95825.

(2) You may hand-deliver written comments to our Sacramento Fish and Wildlife Office at the address given above.

(3) You may send comments by electronic mail (e-mail) to: fw1sccaliforniatiger@r1.fws.gov. See the Public Comments Solicited section below for file format and other information on electronic filing.

FOR FURTHER INFORMATION CONTACT: Chris Nagano or David Wooten, Sacramento Fish and Wildlife Office (see ADDRESSES section) (telephone 916/414-6600; facsimile 916/414-6713).

SUPPLEMENTARY INFORMATION:

Background

For a discussion of biological background information, previous Federal action, factors affecting the species, critical habitat, and conservation measures available to listed and proposed species, consult the emergency rule on the Sonoma County Distinct Vertebrate Population Segment of the California tiger salamander (Sonoma County California tiger salamander) published concurrently in this issue of the Federal Register.

Public Comments Solicited

We intend that any final action resulting from this proposal will be as accurate and as effective as possible. Therefore, we are soliciting comments from the public, other concerned governmental agencies, the scientific community, industry, or any other interested party concerning this proposed rule. We are particularly seeking comments concerning:

(1) Biological, commercial trade, or other relevant data concerning any threat (or lack thereof) to the Sonoma County California tiger salamander;

(2) The location of any additional populations or breeding sites of this species, and the reasons why any habitat should or should not be determined to be critical habitat pursuant to section 4 of the Act;

(3) Additional information concerning the range, distribution, and population size of this species; and

(4) Current or planned activities or land use practices in the subject area and their possible impacts on this species.

If you submit comments by e-mail, please submit them as an ASCII file and avoid the use of special characters and any form of encryption. Please also include “Attn: [RIN-AI61]” and your name and return address in your e-mail message. If you do not receive a confirmation from the system that we have received your e-mail message, contact us directly by calling our Sacramento Fish and Wildlife Office at 916/414-6600.

Our practice is to make comments, including names and home addresses of respondents, available for public review during regular business hours. Individual respondents may request that we withhold their home addresses from the rulemaking record, which we will honor to the extent allowed by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety. Comments and materials received will be available for public inspection, by appointment, during normal business hours at the above address.

In making any final decision on this proposal, we will take into consideration the comments and any additional information we receive, and such communications may lead to a final regulation that differs from this proposal.

Public Hearings

The Act requires that we hold one or more public hearings on this proposal, if requested within 45 days of the date of publication of a proposed rule. Such requests must be made in writing and be addressed to the Field Supervisor, (Attn: SCCTS), Sacramento Fish and Wildlife Office (see ADDRESSES section). Should a public hearing be requested, then we will announce the date, time, and place for the hearing in the Federal Register, through legal notices in area newspapers, and in news releases to the media.

Peer Review

In accordance with our policy published on July 1, 1994 (59 FR 34270), we will seek the expert opinions of at least three appropriate and independent specialists regarding this proposed rule. The purpose of this review is to ensure listing decisions are based on scientifically sound data, assumptions, and analyses. We will send the peer reviewers copies of this proposed rule, as well as the emergency rule, immediately following publication in the Federal Register. We will invite them to comment, during the public comment period, on specific assumptions and conclusions regarding the proposed rule to list the Sonoma County California tiger salamander.

National Environmental Policy Act

We have determined that an environmental assessment and environmental impact statement, as defined under the authority of the National Environmental Policy Act of 1969, need not be prepared in connection with regulations adopted pursuant to section 4(a) of the Endangered Species Act as amended. We published a notice outlining our reasons for this determination in the Federal Register on October 25, 1983 (48 FR 49244).

Executive Order 12866

Executive Order 12866 requires agencies to write regulations that are easy to understand. We invite your comments on how to make this proposal easier to understand including answers to questions such as the following: (1) Is the discussion in the SUPPLEMENTARY INFORMATION section of the preamble helpful in understanding the proposal? (2) Does the proposal contain technical language or jargon that interferes with its clarity? (3) Does the format of the proposal (grouping and order of the sections, use of headings, paragraphing, etc.) aid or reduce its clarity? What else could we do to make the proposal easier to understand?

Send a copy of any comments that concern how we could make this notice easier to understand to: Office of Regulatory Affairs, Department of the Interior, Room 7229, 1849 C Street, NW., Washington, DC 20240. You may e-mail your comments to this address: Exsec@ios.doi.gov.

Paperwork Reduction Act

This rule does not include any new collections of information other than those already approved under the Paperwork Reduction Act, 44 U.S.C. 3501 et seq., and assigned Office of Management and Budget control number 1018-0094 which expires on July 31, 2004. An agency may not conduct or sponsor, and a person is not required to respond to, a collection of information unless it displays a currently valid control number. For additional information concerning permit and associated requirements for endangered species, see 50 CFR 17.21 and 17.22.

Executive Order 13211

On May 18, 2001, the President issued Executive Order 13211 on regulations that significantly affect energy supply, distribution, and use. Executive Order 13211 requires Federal agencies to prepare Statements of Energy Effects when undertaking certain actions. This rule is not expected to significantly affect energy supplies, distribution, or use. Therefore, this action is not significant energy action, and no Statement of Energy Effects is required.

Author

The primary author of this proposed rule is Chris Nagano, Deputy Chief, Endangered Species Division, Sacramento Fish and Wildlife Office, U.S. Fish and Wildlife Service (see ADDRESSES section).

List of Subjects in 50 CFR Part 17

Endangered and threatened species, Exports, Imports, Reporting and record-keeping requirements, Transportation.

Regulation Promulgation

For the reasons given in the preamble to the emergency rule listing the Sonoma County Distinct Vertebrate Population of the California tiger salamander as endangered, published concurrently in this issue of the Federal Register, we hereby propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

2. Amend § 17.11(h) by adding the following, in alphabetical order under AMPHIBIANS, to the List of Endangered and Threatened Wildlife:

§ 17.11 Endangered and threatened wildlife.

* * * * *

(h) * * *

Species: Common name | Species: Scientific name | Historic range | Vertebrate population where endangered or threatened | Status | When listed | Critical habitat | Special rules
* * * * * * *
Amphibians
* * * * * * *
Salamander, California tiger | Ambystoma californiense | U.S.A. (CA) | U.S.A. (CA—Sonoma County) | E | 729 | NA | NA
* * * * * * *

Dated: July 16, 2002.
Marshall P. Jones,
Acting Director, Fish and Wildlife Service.

[FR Doc. 02-18451 Filed 7-19-02; 8:45 am]

BILLING CODE 4310-55-P